DEPARTMENT OF AGRICULTURE

Forest Service

Revision of the Land Management Plan for the Chugach National Forest

AGENCY: Forest Service, USDA.

ACTION: Notice of initiating the development of a land management plan revision for the Chugach National Forest.

SUMMARY: The Chugach National Forest, located in Southcentral Alaska, is initiating the development of a land management plan revision (forest plan). An Assessment will be posted to our Web site around September 1, 2014. We are inviting the public to help us further develop the “need for change” and a proposed action for the land management plan revision.

DATES: The Assessment report for the revision of the Chugach NF's land management plan will be posted on the following Web site at www.fs.usda.gov/ chugach around September 1, 2014.

Public meetings associated with the continued development of the “need for change” and a proposed action will be announced on the Web site cited above.

It is anticipated that the Notice of Intent to prepare an environmental impact statement (which will accompany the land management plan revision for the Chugach NF), will be published in the Federal Register around March 1, 2015.

ADDRESSES: Written comments or questions concerning this notice should be addressed to U.S. Forest Service, Chugach National Forest, 161 East 1st Avenue, Door 8, Anchorage, Alaska, 99501. Comments or questions may also be sent via email to FS-comments-alaska-chugach@fs.fed.us. All correspondence, including names and addresses when provided, are placed in the record and are available for public inspection and copying.

FOR FURTHER INFORMATION CONTACT: Steve Kessler, Acting Forest Plan Revision Team Leader, at 907-743-9461 or, after September 1, 2014, Mary C. Rasmussen, Forest Plan Revision Team Leader at 907-743-9500. Individuals who use telecommunication devices for the deaf (TDD) may call the Federal Information Relay Service (FIRS) at 1-800-877-8339 between 8:00 a.m. and 8:00 p.m. (Eastern time), Monday through Friday.

More information on the planning process can also be found on the Chugach National Forest Planning Web site at www.fs.usda.gov/main/chugach/landmanagement/planning.

SUPPLEMENTARY INFORMATION: Pursuant to the 2012 Forest Planning Rule (36 CFR Part 219), the planning process encompasses three-stages: assessment, plan revision, and monitoring. The first stage of the planning process involves assessing social, economic, and ecological conditions of the planning area, which is documented in an assessment report. The assessment report for the Chugach NF is being completed and will be available around September 1, 2014 on the Forest Web site at www.fs.usda.gov/main/chugach/landmanagement/planning.

This notice announces the start of the second stage of the planning process, which is the development of the land management plan revision. The first task of plan revision is to develop a preliminary “need for change,” which identifies the need to change management direction in the current plan due to information already received about the planning area from the public or employees, changing conditions or monitoring information. The next task is to develop a proposed action, which considers which items identified in the need for change will be addressed in the revision. We are inviting the public to further help us develop our preliminary “need for change” which will inform the proposed action.

A proposed action will initiate our compliance with the National Environmental Policy Act. A Notice of Intent to prepare an environmental impact statement for the land management plan revision, which will include a description of the preliminary need for change and a description of the proposed action, is anticipated to be published around March 1, 2015 in the Federal Register.

Forest plans developed under the National Forest Management Act (NFMA) of 1976 describe the strategic direction for management of forest resources for ten to fifteen years, and are adaptive and amendable as conditions change over time. The Forest Plan for the Chugach NF was approved in 2002 and has been amended five times. On January 31, 2013 and February 7, 2013, public announcements were made that the Chugach NF was beginning to work on the Assessment for revising their Forest Plan. This notice announces the start of the second stage of the planning process, the development of the land management plan revision. Once the plan revision is completed, it will be subject to the objection procedures of 36 CFR Part 219, Subpart B, before it can be approved. The third stage of the planning process is the monitoring and evaluation of the revised plan, which is ongoing over the life of the revised plan.

As public meetings, other opportunities for public engagement, and public review and comment opportunities are identified to assist with the development of the forest plan revision, public announcements will be made, notifications will be posted on the Forest's Web site at www.fs.usda.gov/chugach and information will be sent out to the Forest's mailing list. If anyone is interested in being on the Forest's mailing list to receive these notifications, please contact Karl Vester, Documents Coordinator, at the address identified above, or by sending an email to FS-comments-alaska-chugach@fs.fed.us.

Responsible Official

The responsible official for the revision of the land management plan for the Chugach National Forest is Terri Marceron, Forest Supervisor, Chugach National Forest, 161 East 1st Avenue, Door 8, Anchorage, AK 99501.

Dated: June 23, 2014.
Terri Marceron,
Forest Supervisor.

[FR Doc. 2014-15768 Filed 7-8-14; 8:45 am]

BILLING CODE 3410-11-P